DEPARTMENT OF THE TREASURY

Customs Service

19 CFR Part 122

[T.D. 00-34]

Revised List of User Fee Airports

AGENCY: Customs Service, Treasury.

ACTION: Final rule.

SUMMARY: This document amends the Customs Regulations by revising the list of user fee airports. User fee airports are those which, while not qualifying for designation as international or landing rights airports because of insufficient volume or value of business, have been approved by the Commissioner of Customs to receive the services of Customs officers on a fee basis for the processing of aircraft entering the United States and their passengers and cargo.

EFFECTIVE DATE: May 17, 2000.

FOR FURTHER INFORMATION CONTACT: Betsy Passuth, Office of Field Operations, 202-927-0795.

SUPPLEMENTARY INFORMATION:

Background

Part 122, Customs Regulations (19 CFR part 122), sets forth regulations relating to the entry and clearance of aircraft in international commerce and the transportation of persons and cargo by aircraft in international commerce.

Under § 1644a, Title 19, United States Code (19 U.S.C.1644a), the Secretary of the Treasury is authorized to designate places in the United States as ports of entry for civil aircraft arriving from any place outside of the United States, and for merchandise carried on the aircraft. These airports are referred to as international airports, and the location and name of each are listed in § 122.13, Customs Regulations (19 CFR 122.13). In accordance with § 122.33, Customs Regulations (19 CFR 122.33), the first landing of every civil aircraft entering the United States from a foreign area must be at one of these international airports, unless the aircraft has been specifically exempted from this requirement or permission to land elsewhere has been granted. Customs officers are assigned to all international airports to accept entries of merchandise, collect duties and enforce the customs laws and regulations.

Other than making an emergency or forced landing, if a civil aircraft desires to land at an airport not designated by Customs as an international airport, the pilot may request permission to land at a specific airport and, if granted, Customs assigns personnel to that airport for the aircraft. The airport where the aircraft is permitted to land is called a landing rights airport (19 CFR 122.24).

Section 236 of Pub. L. 98-573 (the Trade and Tariff Act of 1984), codified at 19 United States Code 58b (19 U.S.C. 58b), creates an option for civil aircraft desiring to land at an airport other than an international or landing rights airport. A civil aircraft arriving from a place outside the United States may ask Customs for permission to land at an airport designated by the Secretary of the Treasury as a user fee airport.

Pursuant to 19 U.S.C. 58b, an airport may be designated as a user fee airport if the Secretary of the Treasury determines that the volume of Customs business at the airport is insufficient to justify the availability of Customs services at the airport and the governor of the State in which the airport is located approves the designation. Generally, the type of airport that would seek designation as a user fee airport would be one at which a company, such as an air courier service, has a specialized interest in regularly landing.

Inasmuch as the volume of business anticipated at these airports is insufficient to justify their designation as an international or landing rights airport, the availability of Customs services is not paid for out of Customs appropriations from the general treasury of the United States. Instead, the services of Customs officers are provided on a fully reimbursable basis to be paid for by the user fee airports on behalf of the recipients of the services.

The fees which are to be charged at user fee airports, according to the statute, shall by paid by each person using Customs services at the airport and shall be in the amount equal to the expenses incurred by the Secretary of the Treasury in providing Customs services that are rendered to such persons at such airport, including the salary and expenses of those employed by the Secretary of the Treasury to provide the Customs services. To implement this provision, the airport seeking the designation as a user fee airport or that airport's authority agrees to pay Customs a flat fee annually and the users of the airport are to reimburse that airport/airport authority. The airport/airport authority agrees to set and periodically review its charges to ensure that they are in accord with the airport's expenses.

Pursuant to Treasury Department Order No. 165, Revised (Treasury Decision 53564), all the rights, privileges, powers, and duties vested in the Secretary of the Treasury by the Tariff Act of 1930, as amended, by the navigation laws, or by any other laws administered by Customs are transferred to the Commissioner of Customs. Accordingly, the authority granted to the Secretary of the Treasury to designate user fee airports and to determine appropriate fees is delegated to the Commissioner of Customs.

Under this authority, Customs has determined that certain conditions must be met before an airport can be designated as a user fee airport. At least one full-time Customs officer must be requested, and the airport must be responsible for providing Customs with satisfactory office space, equipment and supplies, at no cost to the Federal Government.

In § 122.15(b), Customs Regulations (19 CFR 122.15(b)), Customs sets forth a list of the user fee airports designated by the Commissioner of Customs in accordance with 19 U.S.C. 58b. This document updates the list.

Inapplicability of Public Notice and Delayed Effective Date Requirements

Because this amendment merely lists those user fee airports designated by the Commissioner of Customs in accordance with 19 U.S.C. 58b and neither imposes additional burdens on, nor takes away any existing rights or privileges from, the public, pursuant to 5 U.S.C. 553(b)(B), notice and public procedure are unnecessary, and for the same reasons, pursuant to 5 U.S.C. 553(d)(3), a delayed effective date is not required.

Regulatory Flexibility Act and Executive Order 12866

Because no notice of proposed rulemaking is required, the provisions of the Regulatory Flexibility Act (5 U.S.C. 601 et seq.) do not apply. This amendment does not meet the criteria for a “significant regulatory action” as specified in Executive Order 12866.

Drafting Information

The principal author of this document was Janet L. Johnson, Regulations Branch, Office of Regulations and Rulings, U.S. Customs Service. However, personnel from other offices participated in its development.

List of Subjects in 19 CFR Part 122

Air carriers, Aircraft, Airports, Customs duties and inspection, Freight.

Amendments to the Regulations

Part 122, Customs Regulations (19 CFR part 122) is amended as set forth below:

PART 122—AIR COMMERCE REGULATIONS

1. The authority citation for Part 122, Customs Regulations, continues to read as follows:

Authority: 5 U.S.C. 301; 19 U.S.C. 58b, 66, 1433, 1436, 1448, 1459, 1590, 1594, 1623, 1624, 1644, 1644a.

2. Section 122.15(b) is amended by revising the list of airports to read as follows:

§ 122.15 User fee airports.

* * * * *

(b)List of user fee airports. * * *

Location | Name
Addison, Texas | Addison Airport.
Blountville, Tennessee | Tri-City Regional Airport.
Blytheville, Arkansas | Arkansas Aeroplex.
Broomfield, Colorado | Jefferson County Airport.
Daytona Beach, Florida | Daytona Beach International Airport.
Decatur, Indiana | Decatur Airport.
Dublin, Virginia | New River Valley Airport.
Egg Harbor Township, New Jersey | Atlantic City International Airport.
Englewood, Colorado | Centennial Airport.
Fargo, North Dakota | Hector International Airport.
Fort Wayne, Indiana | Baer Field Airport.
Fort Worth, Texas | Fort Worth Alliance Airport.
Johnson City, New York | Binghamton Regional Airport.
Lexington, Kentucky | Blue Grass Airport.
Manchester, New Hampshire | Manchester Airport.
Medford, Oregon | Rogue Valley International Airport.
Melbourne, Florida | Melbourne Airport.
Midland, Texas | Midland International Airport.
Morristown, New Jersey | Morristown Municipal Airport.
Moses Lake, Washington | Port of Moses Lake.
Myrtle Beach, South Carolina | Myrtle Beach International Airport.
Ocala, Florida | Ocala Regional Airport.
Palm Springs, California | Palm Springs International Airport.
Rochester, Minnesota | Rochester Airport.
San Bernardino, California | San Bernardino International Airport.
Sarasota, Florida | Sarasota/Bradenton International Airport.
Scottsdale, Arizona | Scottsdale Airport.
Terre Haute, Indiana | Hulman Regional Airport.
Victorville, California | Southern California Logistics Airport.
Waterford, Michigan | Oakland International Airport.
Waukegan, Illinois | Waukegan Regional Airport.
West Chicago, Illinois | Dupage County Airport.
West Trenton, New Jersey | Trenton Mercer Airport.
Wheeling, Illinois | Palwaukee Airport.
Wilmington, Ohio | Wilmington Airport.
Ypsilanti, Michigan | Willow Run Airport.

* * * * *

Raymond W. Kelly,
Commissioner of Customs.
Approved: March 30, 2000.
John P. Simpson,
Deputy Assistant Secretary of the Treasury.

[FR Doc. 00-12366 Filed 5-16-00; 8:45 am]

BILLING CODE 4820-02-P